DEPARTMENT OF AGRICULTURE

Forest Service

Kenai Peninsula-Anchorage Borough Resource Advisory Committee

AGENCY: Forest Service, USDA.

ACTION: Notice of meeting.

SUMMARY: The Kenai Peninsula-Anchorage Borough Resource Advisory Committee will meet in Portage Valley, Alaska. The committee is meeting as authorized under the Secure Rural Schools and Community Self-Determination Act (Pub. L. 110-343) and in compliance with the Federal Advisory Committee Act. The purpose of the meeting is to review and recommend proposed projects.

DATES: The meeting will be held February 26, 2011 at 10 a.m.

ADDRESSES: The meeting will take place at the Begich Boggs Visitor's Center, 800 Portage Lake Loop, Portage, AK 99587.

Send written comments to Kenai Peninsula-Anchorage Borough Resource Advisory Committee, c/o USDA Forest Service, P.O. Box 390, Seward, AK 99664 or electronically to slatimer@fs.fed.us.

All comments, including names and addresses when provided, are placed in the record and are available for public inspection and copying. The public may inspect comments received at Seward Ranger District Office, 334 4th Ave., Seward, AK 99664. Visitors are encouraged to call ahead to Stephanie Latimer 907-224-4103 to facilitate entry into the building.

FOR FURTHER INFORMATION CONTACT: Travis Moseley, Designated Federal Official, c/o USDA Forest Service, P.O. Box 390, Seward, AK 99664, telephone (907) 288-7730.

Individuals who use telecommunication devices for the deaf (TDD) may call the Federal Information Relay Service (FIRS) at 1-800-877-8339 between 8 a.m. and 8 p.m., Eastern Standard Time, Monday through Friday.

SUPPLEMENTARY INFORMATION: The meeting is open to the public. The following business will be conducted: Reviewing and recommending proposed projects. Persons who wish to bring related matters to the attention of the Committee may file written statements with the Committee staff before or after the meeting. Public input sessions will be provided and individuals who made written requests by February 20, 2011 will have the opportunity to address the Committee at those sessions.

Dated: January 26, 2011.
Tim Charnon,
District Ranger, Glacier Ranger District.

[FR Doc. 2011-2279 Filed 2-2-11; 8:45 am]

BILLING CODE 3410-11-P